DEPARTMENT OF DEFENSE

Office of the Secretary

[Docket ID: DOD-2020-OS-0046]

Proposed Collection; Comment Request

AGENCY: Office of the Under Secretary of Defense for Personnel & Readiness, DoD.

ACTION: Information collection notice.

SUMMARY: In compliance with the Paperwork Reduction Act of 1995, the Office of the Under Secretary of Defense for Personnel & Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 30, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact Ms. Angela James, Office of Information Management, Department of Defense, at 571-372-7574, or whs.mc-alex.esd.mbx.dd-dod-information-collections@mail.mil.

SUPPLEMENTARY INFORMATION: Title; Associated Form; and OMB Number: Department of Defense Child Development Program Request for Care Record (DD FORM 2606) & Application for Department of Defense Child Care Fees (DD FORM 2652); OMB Control Number 0704-0515.

Needs and Uses: The DoD requires the information in the proposed collection for program planning and management purposes. This rule includes two collection instruments to include DD Form 2606, “Department of Defense Child Development Program Request for Care Record” and DD Form 2652 “Application for Department of Defense Child Care Fees”. DoD is seeking clearance of DD Form 2606 and DD Form 2652 with this submission.

Affected Public: Individuals or Households.

Annual Burden Hours:

DD 2606: 1,042 hours.

DD 2652: 4,167 hours.

Number of Respondents:

DD 2606: 12,500.

DD 2652: 50,000.

Responses per Respondent:

DD 2606: 1

DD 2652: 1

Annual Responses:

DD 2606: 12,500.

DD 2652: 50,000.

Average Burden per Response:

DD 2606: 5 minutes.

DD 2652: 5 minutes.

Frequency: Biennially.

Respondents for the information collection through DD Form 2606 and DD Form 2652 are patrons requesting child care and patrons enrolled in CDPs. The DoD CDP requires the information in the proposed collections for program planning, management purposes and the determination of child care fees.

The DD Form 2606 is used to collect information for the type of care needed and sponsor status which determines eligibility and priority for child development program services. It is also used to assist management in the planning of present and future program requirements. The information from the DD Form 2652 is used to determine total family income to determine child care fees for families enrolled in the DoD CDP.

Dated: April 28, 2020.
Morgan E. Park,
Alternate OSD Federal Register Liaison Officer, Department of Defense.

[FR Doc. 2020-09267 Filed 4-30-20; 8:45 am]

BILLING CODE 5001-06-P